FEDERAL COMMUNICATIONS COMMISSION

47 CFR Parts 15 and 74

[OET Docket Nos. 14-165, 14-166 and 12-268; Report No. 3037]

Petitions for Reconsideration of Action in a Rulemaking Proceeding

AGENCY: Federal Communications Commission.

ACTION: Petition for reconsideration.

SUMMARY: Petitions for Reconsideration (Petitions) have been filed in the Commission's Rulemaking proceeding by Howard S. Shapiro, on behalf of Audio-Technica U.S., Inc., Laura Stefani, on behalf of Sennheiser Electronic Corp., Paul Margie, on behalf of Google Inc., Paula Boyd, on behalf of Microsoft Corporation, Stephen E. Coran, on behalf of Wireless Internet Service Providers Association, Rick Kaplan, on behalf of National Association of Broadcasters, Lawrence J. Movshin, on behalf of WMTS Coalition, Catherine Wang, on behalf of Shure Incorporated, Ari Q. Fitzgerald, on behalf GE Healthcare, Gordon Moore, on behalf of Lectrosonics, Inc. and Telecommunications Law Professionals PLLC, on behalf of Carlson Wireless Technologies, Inc. and Cal.net, Inc.

DATES: Oppositions to the Petitions must be filed on or before February 29, 2016. Replies to an opposition must be filed on or before March 25, 2016.

ADDRESSES: Federal Communications Commission, 445 12th Street SW., Washington, DC 20554.

FOR FURTHER INFORMATION CONTACT: Hugh Van Tuyl, Policy and Rules Division, Office of Engineering and Technology, (202) 418-7506, email: Hugh.VanTuyl@fcc.gov. Paul Murray, Policy and Rules Division, Offiice of Engineering and Technology, (202) 418-0688, email: Paul.Murray@fcc.gov.

SUPPLEMENTARY INFORMATION: This is a summary of Commission's document, Report No. 3037, released January 12, 2016. The full text of the Petitions is available for viewing and copying in Room CY-B402, 445 12th Street SW., Washington, DC or may be accessed online via the Commission's Electronic Comment Filing System at http://apps.fcc.gov/ecfs/. The Commission will not send a copy of this Notice pursuant to the Congressional Review Act, 5 U.S.C. 801(a)(l)(A) because this notice does not have an impact on any rules of particular applicability.

Number of Petitions Filed: 12.

Federal Communications Commission.
Gloria J. Miles,
Federal Register Liaison Officer, Office of the Secretary.

[FR Doc. 2016-02899 Filed 2-11-16; 8:45 am]

BILLING CODE 6712-01-P